DEPARTMENT OF HEALTH AND HUMAN SERVICES

Centers for Medicare & Medicaid Services

[Document Identifier: CMS-10156 and CMS-9042]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Retiree Drug Subsidy (RDS) Applications and Instructions; Use: Under the Medicare Prescription Drug, Improvement, and Modernization Act of 2003 and implementing regulations at 42 CFR Part 423 Subpart R, Plan Sponsors (e.g., employers or unions) who offer prescription drug coverage to their qualified covered retirees are eligible to receive a 28% tax-free subsidy for allowable drug costs. Plan Sponsors must submit a complete application to CMS in order to be considered for the RDS Program. Form Number: CMS-10156 (OMB# 0938-0957); Frequency: Yearly; Affected Public: Business or other for-profits and not-for-profit institutions, and State, Local, or Tribal Governments; Number of Respondents: 4,500; Total Annual Responses: 4,500; Total Annual Hours: 288,000.

2. Type of Information Collection Request: Extension of a currently approved collection; Title of Information Collection: Accelerated Payments and supporting regulations 42 CFR, § 412.116(f), 412.632(e), 413.64(g), 413.350(d), and 484.245; Use: Section 1815(a) of the Social Security Act describes payment to providers of services. When a delay in Medicare payment by a fiscal intermediary for covered services causes financial difficulties for a provider, the provider may request an accelerated payment. An accelerated payment also may be made in highly exceptional situations where a provider has incurred a temporary delay in its bill processing beyond the provider's normal billing cycle. Accelerated payments are limited to providers that are not receiving periodic interim payments. Form CMS-9042 is used by fiscal intermediaries to assess a provider's eligibility for accelerated payments. Form Number: CMS-9042 (OMB# 0938-0269); Frequency: Yearly; Affected Public: Business or other for-profits and not-for-profit institutions; Number of Respondents: 880; Total Annual Responses: 880; Total Annual Hours: 440.

To obtain copies of the supporting statement and any related forms for the proposed paperwork collections referenced above, access CMS Web Site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on December 29, 2008.

OMB, Office of Information and Regulatory Affairs, Attention: CMS Desk Officer, New Executive Office Building, Room 10235, Washington, DC 20503, Fax Number: (202) 395-6974.

Dated: November 21, 2008.
Michelle Shortt,
Director, Regulations Development Group, Office of Strategic Operations and Regulatory Affairs.

[FR Doc. E8-28371 Filed 11-26-08; 8:45 am]

BILLING CODE 4120-01-P